DEPARTMENT OF AGRICULTURE

Forest Service

Coconino National Forest; Arizona; Flagstaff Watershed Protection Project

AGENCY: Forest Service, USDA.

ACTION: Notice of intent to prepare an environmental impact statement.

SUMMARY: The Forest Service is preparing an environmental impact statement (EIS) to document the potential effects of the Flagstaff Watershed Protection Project (FWPP). The analysis will evaluate and disclose the effects of implementing treatments on the National Forest to reduce the threat of high severity wildfire and subsequent flooding in two watersheds around Flagstaff. Specifically, two key areas have been identified for analysis and treatment under this project: The Dry Lake Hills portion of the Rio de Flag Watershed north of Flagstaff, and the Mormon Mountain portion of the Upper Lake Mary Watershed south of Flagstaff. The project area includes approximately 10,543 acres (roughly 7,569 acres in the Dry Lake Hills portion and 2,974 on Mormon Mountain), and proposed treatments would include thinning and prescribed fire on roughly 8,810 of those acres. The EIS will analyze a variety of harvesting methods, including the use of traditional ground-based equipment, hand thinning, and also methods atypical for the region, including cable and helicopter logging, in order to treat steep, inaccessible terrain.

DATES: Comments concerning the scope of the analysis must be received by May 13, 2013. The draft environmental impact statement is expected in early 2014 and the final environmental impact statement is expected in the summer of 2014.

ADDRESSES: Send written comments to Erin Phelps, Project Leader, USDA Forest Service, Coconino National Forest, 5075 N. Hwy 89, Flagstaff, AZ 86004. Comments may also be sent via email to comments-southwestern-coconino-flagstaff@fs.fed.us, or via facsimile to 928-527-8288. Verbal comments can be submitted in person at the Flagstaff Ranger District Office, 5075 N. Hwy 89, Flagstaff, AZ 86004 or via telephone at (928) 527-8240 during normal business hours (8:30 a.m.-4:30 p.m.).

FOR FURTHER INFORMATION CONTACT: Visit our planning Web site at http://www.fs.usda.gov/projects/coconino/landmanagement/projects or contact Erin Phelps, Project Leader, by phone at (928) 527-8240 or by email at ephelps@fs.fed.us.

Individuals who use telecommunication devices for the deaf (TDD) may call the Federal Information Relay Service (FIRS) at 1-800-877-8339 between 8 a.m. and 8 p.m., Eastern Time, Monday through Friday.

SUPPLEMENTARY INFORMATION:

Purpose and Need for Action

The primary purpose of the Flagstaff Watershed Protection Project (FWPP) is to reduce the risk of high severity wildfire and subsequent flooding in two key watersheds around Flagstaff, Arizona: In the Dry Lake Hills portion of the Rio de Flag Watershed, and the Mormon Mountain portion of the Upper Lake Mary Watershed.

The FWPP analysis area includes portions of the Coconino National Forest that have either not been analyzed or not been treated previously due to prohibitive costs associated with very steep terrain, low value material, and other challenging issues such as potential impacts to wildlife and visual concerns.

There is a need to reduce the risk of high intensity wildfire in watersheds that contribute to the drinking water for the City of Flagstaff as well as reducing the risk of high intensity wildfire in the watershed that drains into the city itself. There is also a need to reduce the risk of severe flooding that would likely damage the drinking water infrastructure south of town, and which could also cause extensive damage to private municipal property should a high-intensity wildfire occur in mountainous areas that make-up the Upper Lake Mary and Rio de Flag watersheds.

In general, fire regimes in the analysis area have shifted from historically more frequent, lower-intensity surface fires (Fire Regime I and III, Condition Class I) to less frequent, higher-intensity crown fires (Condition Class III). There is a need to reduce the potential for crown fire and high intensity surface fire, and to reduce the likelihood of human-caused ignitions. The desired condition is to reduce the threat of high severity wildfire and subsequent flooding to values at risk within and adjacent to the project area, including the City of Flagstaff, outlying communities, the Kachina Peaks Wilderness, and Upper Lake Mary. For the majority of the project area, the desired condition is to decrease the departure from historic conditions, and return the majority of the analysis area in FRI and FRIII to Condition Class 1.

To meet the project's purpose and need, the Forest Service proposes a combination of thinning and prescribed burning activities, establishing a permanent campfire closure order in the Dry Lake Hills area and decommissioning about 34 miles of road in the Flagstaff Watershed Protection Project area. To facilitate timber removal, approximately 15.5 miles of temporary road are also proposed, and three non-significant Forest Plan amendments would be necessarily to implement the proposed activities.

Treatments would include mechanical and hand thinning as well as prescribed fire on approximately 8,810 acres. Mechanical tree thinning would occur within Mexican spotted owl protected activity centers (MSO PACs) with a desired condition of trees greater than 16 inches dbh contributing more than 50 percent of the stand basal area and maintaining a minimum of 40 percent canopy cover in pine-oak and 60 percent in mixed conifer per the MSO Recovery Plan (2012), followed by prescribed burning. Thinning treatments have been designed in coordination with the US Fish and Wildlife Service (FWS) to occur within MSO nest/roost habitat to reduce the risk of high severity wildfire. Some treatments proposed within occupied PACs may need to occur during the breeding season (March 1-August 31); however treatments within PACs would be prioritized to be completed as quickly as possible to avoid long-term impacts and would be coordinated with FWS.

Prescribed fire would include initial pile burning to remove slash accumulated through harvesting, followed by broadcast burning. Maintenance burning may occur every five to seven years following implementation in order to maintain lower fuel loading levels and to restore a frequent, low-intensity fire regime. Areas of mixed conifer on steep slopes may not receive prescribed burning treatments due to the difficulty and safety concerns associationed with implementation in these fuel types and terrain, and also because the vegetation type may not require as frequent burning due to longer historic fire intervals.

Three project-specific, non-significant amendments to the Coconino National Forest Land Management Plan (Forest Plan; 1987, as amended) would be required to implement the proposed action. A site (project) specific plan amendment is a one-time variance in Forest Plan direction for the project; Forest Plan direction reverts back to its original language/direction upon completion of the specified project. The language proposed does not apply to any other forest project.

The Forest Plan is currently under revision; depending on the timing of the release of the final Forest Plan document, the final FWPP analysis will be consistent with the revised Forest Plan. Additionally, a revised MSO Recovery Plan, issued by the U.S. Fish and Wildlife Service (FWS) was finalized in December of 2012 (USDI 2012). The current Forest Plan is consistent with the previous MSO Recovery Plan (USDI 1995). For this project, a Forest Plan amendment would be needed to utilize the revised recovery plan direction if it is different than what is currently included in the Forest Plan. The proposed Forest Plan amendments include:

Amendment 1: Adding the desired percentage of interspace within uneven-aged stands to facilitate restoration in northern goshawk habitat (excluding nest areas), add the interspace distance between tree groups, add language clarifying how canopy cover would be measured, and add a definition to the Forest Plan glossary for the terms “interspaces,” “open reference condition,” and “stands.”

Amendment 2: Adding language to allow mechanical treatments in MSO PACs beyond 9 inches dbh, treatments in MSO restricted habitat above 24 inches dbh, and also to allow treatments and prescribed burning within MSO nest/cores. The monitoring requirement specified under the Forest Plan would be amended to include the monitoring plan developed by the Forest Service, U.S. Fish and Wildlife Service, and the Rocky Mountain Research Station. This amendment would also remove timing restrictions for the duration of the FWPP project. Treatments within PACs would be prioritized to be completed as quickly as possible to avoid long-term impacts and would be coordinated with FWS.

Amendment 3: Removing language restricting mechanical equipment to slopes less than 40 percent and language identifying slopes above 40 percent as inoperable. This amendment would allow mechanical harvesting on slopes greater than 40 percent within the project area. Since the Forest Plan was written and amended, mechanized ground-based equipment has progressed to be able to operate on steep slopes more effectively. In order to be able to utilize such equipment to treat slopes above 40 percent in the project area and meet the purpose and need, this Forest Plan amendment is needed.

Possible Alternatives

A full range of alternatives to the proposed action, including a no-action alternative, will be considered. The no-action alternative represents no change and serves as the baseline for the comparison among the action alternatives.

Cooperating Agencies

The City of Flagstaff is a Cooperating Agency for the Flagstaff Watershed Protection Project, and is participating in the planning and analysis process.

Responsible Official

M. Earl Stewart, Forest Supervisor, Coconino National Forest.

Nature of Decision To Be Made

The Forest Supervisor is the responsible official for deciding whether or not, and in what manner, lands within the Flagstaff Watershed Protection Project area would be treated to reduce wildfire and flooding hazards.

Items in this decision will include: Number of acres treated mechanically; number of acres treated by hand thinning; number of acres treated with prescribed fire; treatments within the MSO restricted habitat; treatments within MSO PACs and protected habitat; treatments within northern goshawk habitat; construction of new temporary roads; decommissioning/obliteration of closed roads; type of implementation method to be used; issuance of a permanent camfire restriction order in the Dry Lake Hills; project-specific Forest Plan amendments; and design features to protect forest resources of soil, water, scenery values, wildlife and habitat, and rare plants.

The decision will be based on a consideration of the environmental effects of implementing the proposed action or alternatives. The Forest Supervisor may select the proposed action, any alternative analyzed in detail, a modified proposed action or alternative, or no action.

Scoping Process

This notice of intent initiates the formal scoping process, which guides the development of the environmental impact statement. Multiple public meetings will be held throughout the planning process for the FWPP project, including a general information sharing and comment gathering meeting scheduled for May 1, 2013 at the Aquaplex in Flagstaff (1702 N. 4th Street) from 6:00 to 8:00 p.m. The Greater Flagstaff Forests Partnership (GFFP) will also be hosting meetings on behalf of the City of Flagstaff. Please visit the FWPP project Web site at http://www.flagstaffwatershedprotection.org/ for more information and a calendar of upcoming meeting dates.

This project is subject to the objection process pursuant to 36 CFR part 218 (March 27, 2013), and is not being authorized under the Healthy Forest Restoration Act (HFRA). As such, those who provide specific written comments during the formal scoping and/or the comment periods in accordance with § 218.5 will be eligible to participate in the objection process. Issues raised in objections must be based on previously submitted timely, specific written comments regarding the proposed project unless new information arises after designated opportunities (36 CFR 218.7).

It is important that reviewers provide their comments at such times and in such manner that they are useful to the agency's preparation of the environmental impact statement. Therefore, comments should be provided prior to the close of the 30 day scoping period and should clearly articulate the reviewer's concerns and contentions.

Comments received in response to this solicitation, including names and addresses of those who comment, will be part of the public record for this proposed action. Comments submitted anonymously will be accepted and considered, but will not be eligible for objection per § 218.5.

Dated: April 5, 2013.
M. Earl Stewart,
Forest Supervisor.

[FR Doc. 2013-08455 Filed 4-10-13; 8:45 am]

BILLING CODE ;P